CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of the collection requirement on respondents can be properly assessed.

Currently, the Corporation is soliciting comments concerning its proposed renewal of “Application for the President's Higher Education Community Service Honor Roll” which will involve the collection of information from institutions of higher education concerning community service activities and will provide the basis for the national honor roll and awards program. Each year the Honor Roll program includes a Special Focus Area that awards excellence in a specific category of community service work. This Special Focus Area will fall within the Administration's and Edward M. Kennedy Serve America Act's (Pub. L. 111-13) national service priorities: Education, health, clean energy, veteran and economic opportunity.

Copies of the information collection requests can be obtained by contacting the office listed in the addresses section of this notice.

DATES: Written comments must be submitted to the individual and office listed in the ADDRESSES section by June 1, 2010.

ADDRESSES: You may submit comments, identified by the title of the information collection activity, by any of the following methods:

(1) By mail sent to: Corporation for National and Community Service, Learn and Serve America; Attention: Kevin Michael Days, Advisor, Higher Education Special Initiatives, Room 9616A; 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3477, Attention: Kevin Michael Days, Advisor, Higher Education Special Initiatives.

(4) Electronically through www.regulations.gov. Individuals who use a telecommunications device for the deaf (TTY-TDD) may call (202) 606-3472 between 8:30 a.m. and 5 p.m. eastern time, Monday through Friday.

FOR FURTHER INFORMATION CONTACT: Kevin Michael Days, (202) 606-6899, or by e-mail at kdays@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The President's Higher Education Community Service Honor Roll program is designed to identify and reward exemplary higher education community service programs and practices. This program helps fulfill the Corporation's strategic goals of engaging Americans, particularly millions of college students, in service, and ensuring that all higher education institutions provide, or stimulate the creation of resources to coordinate service, service-learning, and community partnerships. Beginning with the fifth year of the Honor Roll program, the application will include a special focus area that will highlight the national service priorities of the Administration and the Edward M. Kennedy Serve America Act, by encouraging higher education institutions' efforts to tackle priorities ranging from increasing high school graduation rates to fostering economic opportunity.

Current Action

The Corporation seeks to renew the current information collection. The Corporation is making the following changes to the application and guidance for two reasons. First, to better align the program with the current Administration's goals for service, (i.e., measuring the impact of service in the community, strengthening of civic infrastructures, and building the capacities of nonprofits) the focus of the application is moving away from individual project descriptions toward institutional and long-term support of community service. The Corporation is also revising the Special Focus area competition to align with the current Administration's and Edward M. Kennedy Serve America Act's national service priorities.

Second, as a result of feedback from respondents from the higher education field, we are reducing the number of project descriptions within the application and instructing applicants to align their project/program descriptions to their institution's overall support for community service. These changes will reduce the number of project/program descriptions from five to three but will include expanded opportunity for applicants to demonstrate the connection of this service to their larger institutional commitment to service, and the impact of this service in the targeted community.

The information collection will otherwise be used in the same manner as the existing application. The current application is due to expire on June 30, 2010.

Type of Review: Renewal.

Agency: Corporation for National and Community Service.

Title: Application for the President's Higher Education Community Service Honor Roll.

OMB Number: 3045-0120.

Agency Number: None.

Affected Public: Degree-granting colleges and universities located in the U.S. and its territories.

Total Respondents: 4,500.

Frequency: Annual.

Average Time per Response: Averages 1 hour.

Estimated Total Burden Hours: 4,500 hours.

Total Burden Cost (capital/startup): None.

Total Burden Cost (operating/maintenance): None.

Comments submitted in response to this notice will be summarized and/or included in the request for Office of Management and Budget approval of the information collection request; they will also become a matter of public record.

Dated: March 24, 2010.
Cara Patrick,
Acting Director, Learn and Serve America.

[FR Doc. 2010-6959 Filed 3-29-10; 8:45 am]

BILLING CODE 6050-$$-P